EQUAL EMPLOYMENT OPPORTUNITY COMMISSION

Sunshine Act Notice

AGENCY: Equal Employment Opportunity Commission.

Date and Time: Tuesday, November 12, 2002 (Two (2) Panels—10 a.m. and 2 p.m. Eastern Time).

Place: Clarence M. Mitchell Conference Room on the Ninth Floor of the EEOC Office Building, 1801 L Street, NW., Washington, DC 20507.

Status: The meeting will be open to the public

Matters to be Considered:

Open Session

1. Announcement of Notation Votes, and

2. Panel Discussions on Federal Sector EEO Complaint Processing Reform.

Note: Any matter not discussed or concluded may be carried over to a later meeting. (In addition to publishing notices on EEOC Commission meetings in the Federal Register, the Commission also provides a recorded announcement a full week in advance on future Commission sessions.).

Please telephone (202) 663-7100 (voice) and (202) 663-4074 (TTD) at any time for information on these meetings.

FOR FURTHER INFORMATION CONTACT: Frances M. Hart, Executive Officer on (202) 663-4070.

This Notice Issued October 29, 2002.
Frances M. Hart,
Executive Officer, Executive Secretariat.

[FR Doc. 02-27905 Filed 10-29-02; 3:37 pm]

BILLING CODE 6750-06-M